DEPARTMENT OF HOMELAND SECURITY

Transportation Security Administration

49 CFR Parts 1540, 1544, and 1560

[Docket No. TSA-2007-28572]

RIN 1652-ZA15

Public Meeting: Secure Flight Program

AGENCY: Transportation Security Administration, DHS.

ACTION: Notice of public meeting and request for comments.

SUMMARY: This notice provides the time and location of the public meeting which will be held by the Transportation Security Administration (TSA) regarding the Notice of Proposed Rulemaking (NPRM) entitled “Secure Flight Program,” which was published in the Federal Register on August 23, 2007 (72 FR 48356).

DATES: The public meeting will be on September 20, 2007, in Washington, DC. The meeting will begin at 9 am. Persons not able to attend the meeting are invited to provide written comments, which must be received by October 22, 2007.

ADDRESSES: The public meeting will be held at the Grand Hyatt Washington, 1000 H Street, NW., Washington, DC 20001. Participants should check in with Secure Flight staff.

Persons unable to attend the meeting may submit comments, identified by the TSA docket number to this rulemaking, using any one of the following methods:

Comments Filed Electronically: You may submit comments through the docket Web site at http://dms.dot.gov. You also may submit comments through the Federal eRulemaking portal at http://www.regulations.gov.

Comments Submitted by Mail, Fax, or In Person: Address or deliver your written, signed comments to the Docket Management System at: U.S. Department of Transportation, Docket Operations, M-30, West Building Ground Floor, Room W12-140, 1200 New Jersey Ave., SE., Washington, DC 20590; Fax: 202-493-2251.

See SUPPLEMENTARY INFORMATION for format and other information about comment submissions.

FOR FURTHER INFORMATION CONTACT: Kevin Knott, Policy Manager, Secure Flight, Office of Transportation Threat Assessment and Credentialing, TSA-19, Transportation Security Administration, 601 South 12th Street, Arlington, VA 22202-4220; Telephone (240) 568-5611.

SUPPLEMENTARY INFORMATION:

Comments Invited

TSA invites interested persons to participate in the public meeting by submitting written comments, data, or views. We invite comments relating to any aspect of the Secure Flight Program. The areas in particular in which TSA seeks information and comment at the public meeting are listed below in the “Specific Issues for Discussion” section. See ADDRESSES above for information on where to submit comments.

We also invite comments relating to the economic, environmental, energy, or federalism impacts that might result from this rulemaking action. See ADDRESSES above for information on where to submit comments.

With each comment, please include your name and address, identify the docket number at the beginning of your comments, and give the reason for each comment. The most helpful comments reference a specific topic, explain the reason for any recommendation, and include supporting data. You may submit comments and material electronically, in person, by mail, or fax as provided under ADDRESSES, but please submit your comments and material by only one means. If you submit comments by mail or delivery, submit them in two copies, in an unbound format, no larger than 8.5 by 11 inches, suitable for copying and electronic filing.

If you want TSA to acknowledge receipt of comments submitted by mail, include with your comments a self-addressed, stamped postcard on which the docket number appears. We will stamp the date on the postcard and mail it to you.

TSA will file in the public docket all comments received by TSA, except for comments containing confidential information and sensitive security information (SSI),¹ TSA will consider all comments received on or before the closing date for comments and will consider comments filed late to the extent practicable. The docket is available for public inspection before and after the comment closing date.

¹ “Sensitive Security Information” or “SSI” is information obtained or developed in the conduct of security activities, the disclosure of which would constitute an unwarranted invasion of privacy, reveal trade secrets or privileged or confidential information, or be detrimental to the security of transportation. The protection of SSI is governed by 49 CFR part 1520.

Handling of Confidential or Proprietary Information and Sensitive Security Information (SSI) Submitted in Public Comments

Do not submit comments that include trade secrets, confidential commercial or financial information, or SSI to the public regulatory docket. Please submit such comments separately from other comments on the rulemaking. Comments containing this type of information should be appropriately marked as containing such information and submitted by mail to the address listed in FOR FURTHER INFORMATION CONTACT section.

Upon receipt of such comments, TSA will not place the comments in the public docket and will handle them in accordance with applicable safeguards and restrictions on access. TSA will hold them in a separate file to which the public does not have access, and place a note in the public docket that TSA has received such materials from the commenter. If TSA receives a request to examine or copy this information, TSA will treat it as any other request under the Freedom of Information Act (FOIA) (5 U.S.C. 552) and the Department of Homeland Security's (DHS's) FOIA regulation found in 6 CFR part 5.

Reviewing Comments in the Docket

Please be aware that anyone is able to search the electronic form of all comments received into any of our dockets by the name of the individual submitting the comment (or signing the comment, if submitted on behalf of an association, business, labor union, etc.). You may review the applicable Privacy Act Statement published in the Federal Register on April 11, 2000 (65 FR 19477), or you may visit http://dms.dot.gov.

You may review the comments in the public docket by visiting the Dockets Office between 9 a.m. and 5 p.m., Monday through Friday, except Federal holidays. The Dockets Office is located in the West Building Ground Floor, Room W12-140, at the Department of Transportation address, previously provided under ADDRESSES. Also, you may review public dockets on the Internet at http://dms.dot.gov.

Availability of Document

You can get an electronic copy using the Internet by—

(1) Searching the Department of Transportation's electronic Docket Management System (DMS) Web page (http://dms.dot.gov/search); or

(2) Visiting TSA's Security Regulations Web page at http://www.tsa.gov and accessing the link for “Research Center” at the top of the page.

In addition, copies are available by writing or calling the individual in the FOR FURTHER INFORMATION CONTACT section. Make sure to identify the docket number of this action.

Background

TSA performs passenger and baggage screening at the Nation's commercial airports.² Aircraft operators currently supplement this security screening by performing passenger watch list matching using the Federal No Fly and Selectee Lists, as required under security directives that TSA issued following the terrorist attacks of September 11, 2001. Aircraft operators also conduct this watch list matching process for non-traveling individuals ³ authorized to enter the sterile area ⁴ of an airport in order to escort a passenger or for some other purpose approved by TSA.

² See the Aviation and Transportation Security Act (ATSA) (Pub. L. 107-71, 115 Stat. 597, Nov. 19, 2001).

³ “Non-traveling individual” is defined in the NPRM for the Secure Flight Program as an individual to whom a covered aircraft operator or covered airport operator seeks to issue an authorization to enter the sterile area of an airport in order to escort a minor or a passenger with disabilities or for some other purpose permitted by TSA. It would not include employees or agents of airport or aircraft operators or other individuals whose access to a sterile area is governed by another TSA regulation or security directive. Proposed 49 CFR 1560.3.

⁴ “Sterile area” is defined in 49 CFR 1520.5 as “a portion of an airport defined in the airport security program that provides passengers access to boarding aircraft and to which the access generally is controlled by TSA, or by an aircraft operator under part 1544 of this chapter or a foreign air carrier under part 1546 of this chapter, through the screening of persons and property.”

The Intelligence Reform and Terrorism Prevention Act of 2004 (IRTPA) requires TSA to assume from air carriers the comparison of passenger information to the automatic Selectee and No Fly Lists and to utilize all appropriate records in the consolidated and integrated watch list that the Federal Government maintains.⁵ The final report of the National Commission on Terrorist Attacks Upon the United States (9/11 Commission Report) recommends that the watch list matching function “should be performed by TSA and it should utilize the larger set of watch lists maintained by the Federal Government.” See 9/11 Commission Report at 393.

⁵ Pub. L. 108-458, 118 Stat. 3638, Dec. 17, 2004.

On August 23, 2007, TSA published in the Federal Register (72 FR 48356) the NPRM for the Secure Flight Program describing TSA's proposal for assuming the responsibility for passenger watch list matching from covered aircraft operators.⁶ TSA seeks comment on the proposal described in the NPRM. TSA intends to analyze the public comments and issue a final rule.

⁶ TSA proposes to define a “covered aircraft operator” as a U.S. aircraft operator that is required to have a full program under 49 CFR 1544.101(a) or a foreign air carrier that is required to have a security program under 49 CFR 1546.101(a) or (b). Proposed § 1560.3.

Specific Issues for Discussion

There are several areas in particular in which TSA seeks information and comment from the industry at the public meeting, listed below. These key issues are intended to help focus public comments on subjects that TSA must explore in order to complete its review of the proposed Secure Flight program. The comments at the meeting need not be limited to these issues, and TSA invites comments on any other aspect of the proposed Secure Flight program. These are:

(1) Proposed data elements.

(2) Proposed data retention schedule.

(3) Proposed 72-hour data transmission requirement.

(4) Proposed watch list matching procedures for overflights.

(5) Proposed watch list matching procedures for international 2-leg boarding pass issuance.

(6) Proposed requirement for placing a code, such as a bar code, on boarding passes.

(7) Proposed privacy notice requirement.

(8) Proposed compliance schedule and estimated compliance costs.

Participation at the Meeting

The meeting is expected to begin at 9 a.m. Following an introduction by TSA, members of the public will be invited to ask clarifying questions or present their views.

Anyone wishing to present an oral statement at the meeting must register to present comments between 8 and 9:30 a.m. on the day of the meeting, and provide his or her name and affiliation. Such requests will be met on a first-come, first-served basis. Speakers should keep comments brief and plan to speak for no more than five minutes when presenting comments.

Public Meeting Procedures

TSA will use the following procedures to facilitate the meeting:

(1) There will be no admission fee or other charge to attend or to participate in the meeting. The meeting will be open to all persons. All persons who wish to present an oral statement must register to present comments between 8 and 9:30 a.m. on the day of the meeting. TSA will make every effort to accommodate all persons who wish to participate, but admission will be subject to availability of space in the meeting room. The meeting may adjourn early if scheduled speakers complete their statements or questions in less time than is scheduled for the meeting.

(2) An individual, whether speaking in a personal or a representative capacity on behalf of an organization, will be limited to a five-minute statement and scheduled on a first-come, first-served basis.

(3) Any speaker prevented by time constraints from speaking will be encouraged to submit written remarks, which will be made part of the record.

(4) For information on facilities or services for individuals with disabilities or to request assistance at the meeting, please contact the person listed in the FOR FURTHER INFORMATION CONTACT section above before September 13, 2007.

(5) Representatives of TSA will preside over the meeting.

(6) The meeting will be recorded by a court reporter. Any person who is interested in purchasing a copy of the transcript should contact the court reporter directly.

(7) Statements made by TSA representatives are intended to facilitate discussion of the issues or to clarify issues. Any statement made during the meeting by a TSA representative is not intended to be, and should not be construed as, a position of TSA.

(8) The meeting is designed to invite public views and gather additional information. No individual will be subject to cross-examination by any other participant; however, TSA representatives may ask questions to clarify a statement.

Issued in Arlington, Virginia, on August 31, 2007.
Stephanie Rowe,
Assistant Administrator for Transportation Threat Assessment & Credentialing.

[FR Doc. E7-17607 Filed 9-4-07; 8:45 am]

BILLING CODE 9110-05-P